DEPARTMENT OF JUSTICE

Drug Enforcement Administration

[OMB Number 1117-0031]

Agency Information Collection Activities: Proposed Collection; Comments Requested

ACTION: 60 day emergency notice of information collection under review. Application for registration under Domestic Chemical Diversion Control Act of 1993 and renewal application for registration under Domestic Chemical Diversion Control Act of 1993 DEA forms 510 & 510A.

The Department of Justice, Drug Enforcement Administration (DEA), will be submitting the following information collection request to the Office of Management and Budget (OMB) for review and clearance in accordance with emergency review procedures of the Paperwork Reduction Act of 1995. The proposed information collection is published to obtain comments from the public and affected agencies. If granted, the emergency approval is only valid for 180 days. Comments should be directed to the Office of Management and Budget, Office of Information and Regulatory Affairs, Attention: Department of Justice Desk Officer, Washington, DC 20503. Comments are encouraged and will be accepted for 10 days until May 21, 2007.

If you have comments, especially on the estimated public burden or associated response time, suggestions, or need a copy of the proposed information collection instrument with instructions or additional information, please contact Mark W. Caverly, Chief, Liaison and Policy Section, Office of Diversion Control, Drug Enforcement Administration, Washington, DC 20537.

Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection:

(1) Type of Information Collection: Extension of a Currently Approved Collection.

(2) Title of the Form/Collection: Application for Registration under Domestic Chemical Diversion Control Act of 1993 and Renewal Application for Registration under Domestic Chemical Diversion Control Act of 1993 DEA Forms 510 & 510A.

(3) Agency form number, if any, and the applicable component of the Department sponsoring the collection:

Form number: DEA Forms 510 and 510a.

Component: Office of Diversion Control, Drug Enforcement Administration, U.S. Department of Justice.

(4) Affected public who will be asked or required to respond, as well as a brief abstract:

Primary: Business or other for-profit. Other: none.

Abstract: The Domestic Chemical Diversion Control Act requires that manufacturers, distributors, importers, and exporters of List I chemicals which may be diverted in the United States for the production of illicit drugs must register with DEA. Registration provides a system to aid in the tracking of the distribution of List I chemicals.

(5) An estimate of the total number of respondents and the amount of time estimated for an average respondent to respond: Respondents respond annually. The below table presents information regarding the number of respondents, responses, and associated burden hours.

| Respondents | Burden (minutes) | Total hour burden (hours)
DEA-510 (paper) | 286 | 0.5 hours (30 minutes) | 143
DEA-510 (electronic) | 278 | 0.25 hours (15 minutes) | 69.5
DEA-510a (paper) | 644 | 0.5 hours (30 minutes) | 322
DEA-510a (electronic) | 1368 | 0.25 hours (15 minutes) | 342
Total | 2576 |  | 876.5
Total percentage electronic: 64%.

(6) An estimate of the total public burden (in hours) associated with the collection: 877 annual burden hours.

If additional information is required contact: Lynn Bryant, Department Clearance Officer, United States Department of Justice, Justice Management Division, Policy and Planning Staff, Patrick Henry Building, Suite 1600, 601 D Street, NW., Washington, DC 20530.

Dated: May 7, 2007.
Lynn Bryant,
Department Clearance Officer, PRA, Department of Justice.

[FR Doc. E7-9140 Filed 5-10-07; 8:45 am]

BILLING CODE 4410-09-P